DEPARTMENT OF COMMERCE

National Oceanic and Atmospheric Administration

Sanctuary System Business Advisory Council; Public Meeting

AGENCY: Office of National Marine Sanctuaries (ONMS), National Ocean Service (NOS), National Oceanic and Atmospheric Administration (NOAA), Department of Commerce (DOC).

ACTION: Notice of open meeting.

SUMMARY: Notice is hereby given of a meeting via web conference call of the Sanctuary System Business Advisory Council (Council). The web conference call is open to the public, and participants can dial into the call. Participants who choose to use the web conferencing feature in addition to the audio will be able to view the presentations as they are being given.

DATES: Members of the public wishing to participate in the meeting must register in advance by December 10, 2014. The meeting will be held Thursday, December 11, 2014, from 3:00 p.m. to 4:30 p.m. ET, and an opportunity for public comment will be provided at 4:05 p.m. ET. These times and the agenda topics described below are subject to change.

ADDRESSES: The meeting will be held via web conference call. Register by contacting Rebecca Holyoke at rebecca.holyoke@noaa.gov or (301) 713-7264. Webinar and teleconference capacity may be limited.

FOR FURTHER INFORMATION CONTACT: Rebecca Holyoke, Office of National Marine Sanctuaries, 1305 East West Highway, Silver Spring, Maryland 20910. (Phone: 301-713- 7264, Fax: 301-713-0404; email: rebecca.holyoke@noaa.gov).

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. The Sanctuary System Business Advisory Council (Council) has been formed to provide advice and recommendations to the Director regarding the relationship of the ONMS with the business community. Additional information on the Council can be found at http://sanctuaries.noaa.gov/management/bac/welcome.html.

Matters To Be Considered: The fourth meeting of the Council will provide an opportunity for council representatives to hear about ONMS efforts to promote national marine sanctuaries as sentinel sites for change detection and building a better understanding of coastal, marine, and Great Lakes ecosystems (i.e., ONMS Sentinel Monitoring Program). Discussions will focus on potential expansion of or developing new collaborations to conduct research and monitoring, including engaging citizen scientists from sanctuary communities. The agenda is subject to change. The agenda is available at http://sanctuaries.noaa.gov/management/bac/welcome.html.

Authority: 16 U.S.C. 1431, et seq.

(Federal Domestic Assistance Catalog Number 11.429, Marine Sanctuary Program)

Dated: November 7, 2014.
Daniel J. Basta,
Director, Office of National Marine Sanctuaries, National Ocean Service, National Oceanic and Atmospheric Administration.

[FR Doc. 2014-27726 Filed 11-25-14; 8:45 am]

BILLING CODE 3510-NK-P